DEPARTMENT OF LABOR

Office of the Secretary

Senior Executive Service; Members of the Performance Review Board

Title 5 U.S.C. 4314(c)(4) provides that Notice of the Appointment of an individual to serve as a member of the Performance Review Board of the Senior Executive Service shall be published in the Federal Register.

The Department of Labor hereby provides notice that the membership of its Performance Review Board (PRB), previously published in the Federal Register on October 16, 2023, is no longer in effect.

In accordance with the Executive Memorandum Restoring Accountability for Career Senior Executives, the PRB has been dissolved, and all prior members have been removed. At this time, there are no new appointments to the PRB. In compliance with 5 CFR 430.311(a)(4), the agency will publish a subsequent notice in the Federal Register when a new PRB is established and members are appointed.

This action is being taken to ensure that the public has notice of the current status of the PRB for the Department of Labor.

FOR FURTHER INFORMATION CONTACT: Tania Burkley, Chief, Division of Executive Resources, Room N2453, U.S. Department of Labor, Frances Perkins Building, 200 Constitution Ave. NW, Washington, DC 20210, telephone: (202) 693-7638.

Signed at Washington, DC.
Troy W. Finnegan,
Assistant Secretary for Administration and Management.

[FR Doc. 2025-03621 Filed 3-5-25; 8:45 am]

BILLING CODE 4510-04-P